DEPARTMENT OF COMMERCE

National Oceanic and Atmospheric Administration

RIN 0648-XV48

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Squid, Mackerel, and Butterfish (SMB), Joint Dogfish, Research Set-Aside (RSA), and Executive Committees will hold public meetings.

DATES: Tuesday, April 13, 2010, through Thursday, April 15, 2010. On Tuesday, April 13, The Squid, Mackerel, and Butterfish (SMB) Committee will meet from 8 a.m. until Noon. The Joint Dogfish Committee will meet from 1 p.m. until 4 p.m.. From 4 p.m. until 5:30 p.m., the Research Set-Aside (RSA) will meet. On Wednesday, April 14, 2010, The Executive Committee will meet from 8 a.m. until 9 a.m. The Council will convene at 9 a.m. The Council will hold its regular Business Session from 9 a.m. until 11 a.m. to approve the December 2009 and February 2010 minutes, receive Organizational Reports, Liaison Reports, Executive Director's Report, and the status of the Fishery Management Plans (FMPs). From 11 a.m. until Noon, the Council will consider, discuss and possibly approve Monkfish Amendment 5. From 1 p.m. until 5:30 p.m., the Council will consider, discuss and possibly approve the Public Hearing Document for the Annual Catch Limits / Accountability Measures (ACL/AM) Omnibus Amendment. On Thursday April 15, the Council will convene at 8:30 a.m. From 8:30 a.m. until 9:30 a.m., the Council will receive an update on the Endangered Species Act (ESA) regarding loggerhead turtles. The Council will receive Committee reports from 9:30 a.m. until 10:30 a.m. From 10:30 a.m. until Noon, the Council will discuss continuing and new business.

ADDRESSES: The Sanderling Hotel, 1461 Duck Road, Duck, NC 27949; telephone: 252-261-4111

Council address: Mid-Atlantic Fishery Management Council, 300 N. State St., Suite 201, Dover, DE 19901-3910; telephone: 302-674-2331.

FOR FURTHER INFORMATION CONTACT: Daniel T. Furlong, Executive Director, Mid-Atlantic Fishery Management Council; telephone: 302-674-2331, ext. 255.

SUPPLEMENTARY INFORMATION: Agenda items by day for the Council's Committees and the Council itself are: On Tuesday, April 13, The SMB Committee will review Amendment 11 public comments; select preferred alternatives for proposed management measures included in Amendment 11, i.e., cap capacity via limited access, update the SMB species' essential fish habitat (EFH) descriptions, evaluate fishing-related gear impacts on Loligo egg EFH, establish recreational mackerel allocation, and avoid at-sea processing problems. The SMB Committee will also review the Scoping Document developed for Amendment 14. The Joint Dogfish Committee will review and respond to the updated Transboundary Resource Assessment Committee (TRAC) assessment for dogfish; review stock status relative to biological reference point (BRP) update; address and develop a specific quota recommendation as necessary; and, review and discuss the Draft Environmental Impact Statement (DEIS) for smooth dogfish (HMS Amendment 3). The RSA Committee will discuss possible ways to improve the RSA program and consider developing research priorities for 2012.

On Wednesday, April 14, the Executive Committee will review an update from the Ad Hoc Search Committee regarding the search process for the Council's next Executive Director; review and consider the Scientific and Statistical Committee's (SSC) recommended changes to the Council's Statement of Organization, Practices and Procedures (SOPPs); and discuss the Catch Shares Workshop results and potential next steps. The Council will hold its regular Business Session to approve the December 2009 and February 2010 minutes, receive Organizational Reports, Liaison Reports, the Executive Director's Report, and an update on the status of the Council's FMPs. The Council will review the Monkfish Advisory Panel and the Oversight Committee's recommendations; select and possibly approve final measures for: implementation of annual catch limits (ACL) and accountability measures (AMs) to prevent overfishing, establishment of management reference points in accordance with the revised guidelines, and specification of quota for FY 2011-2013 and beyond using trip limits and days-at-sea (DAS) for the directed fishery. The Council will likely approve the Public Hearing Document for the ACL / AM Omnibus Amendment.

On Thursday, April 15, the Council will convene for an update regarding the change in the Endangered Species Act (ESA) listing status of loggerhead sea turtle from threatened to endangered. The Council will receive Committee reports, discuss the status of 2010 Black Sea Bass recreational measures, i.e., review and compare the Atlantic States Marine Fisheries Commission's current position and Council's February recommendation; receive a presentation regarding Stock Assessment Review Committee (SARC) 49; and discuss National Oceanic and Atmospheric Administration's (NOAA) General Counsel's (GC) opinion on SMB Amendment 10 rulemaking and consider possible options to address effects of Amendment 10.

Special Accommodations

This meeting is physically accessible to people with disabilities. Requests for sign language interpretation or other auxiliary aid should be directed to M. Jan Saunders (302-526-5251) at least five days prior to the meeting date.

Dated: March 22, 2010.
William D. Chappell,
Acting Director, Office of Sustainable Fisheries, National Marine Fisheries Service.

[FR Doc. 2010-6625 Filed 3ndash;24-10; 8:45 am]

BILLING CODE 3510-22-S